DEPARTMENT OF AGRICULTURE

Agricultural Research Service

Availability of the Final Environmental Assessment (EA) and Finding of No Significant Impact (FONSI) of the Kika de la Garza Subtropical Research Center (KSARC)

AGENCY: Agricultural Research Service, USDA.

ACTION: Notice.

SUMMARY: Notice is hereby given that the U.S. Department of Agriculture (USDA) Agricultural Research Service (ARS) has made a FONSI for transferring the land and real estate at the KSARC in Weslaco, Texas to the Texas A&M University System (TAMUS). The FONSI document is based on impact analysis documented in the draft EA that was issued for a 30-day public comment period beginning on August 2, 2013 and that was finalized on September 4, 2013.

FOR FURTHER INFORMATION CONTACT: Phil Smith, Acting Property Team Lead, USDA-ARS-WBSC, 1001 Holleman Drive East, College Station, Texas 77840; Telephone: 979-260-9449; email: phil.smith@ars.usda.gov. You may contact Mr. Smith for a copy of the FONSI document. Copies of the Final EA and FONSI are available for public inspection during normal business hours at the following locations:

• Weslaco Public Library, 525 South Kansas Avenue, Weslaco, Texas 78596.

• Larry Ringer Library, 1818 Harvey Mitchell Parkway South, College Station, Texas 77845.

SUPPLEMENTARY INFORMATION: In accordance with the National Environmental Policy Act (NEPA) of 1969, as amended, and the Federal Land Policy and Management Act of 1976 (FLPMA), as amended, USDA ARS has prepared a Final EA for the proposed transfer of approximately 70-acres of land and associated buildings at the KSARC in Weslaco, Texas from the USDA ARS to TAMUS. The KSARC is divided into two separate properties, with the main research station located at 2413 East Highway 83, Weslaco, Texas 77840 and a research farm located at 2301 South International Boulevard, Weslaco, Texas 77840. As a condition of the transfer, TAMUS would commit to using the property for agricultural and natural resources research for a period of 25 years, supporting the strategic goals of USDA and establishing a Beginning Farmers and Ranchers Program at the Property. TAMUS would assume responsibility and maintenance of the constructed facilities and land to be conveyed from USDA. The KSARC has been in operation as a USDA ARS research facility since 1960, with the mission “to increase food and fiber productivity by developing new technology for safe and efficient agricultural production methods and by conserving natural resources and protecting the environment.” The facility was closed under Public Law (Pub. L.)112-55, Consolidated and Further Continuing Appropriations Act, 2012 and is currently being utilized in a very limited capacity by researchers from other ARS locations. Under the terms of the PL, the Secretary of Agriculture has the authority to transfer the Property from USDA to TAMUS. If the Property is tranferred, it will be done with no monetary cost to TAMUS and a Deed Without Warranty will be prepared by the USDA to convey the title/property rights to TAMUS. The Deed Without Warranty would incorporate any use restrictions identified by the NEPA process, as well as the 25-year use restriction for agricultural and natural resources research as required by Section 732 of the PL.

Two alternatives are analyzed in the Final EA, the No Action Alternative and the Proposed Action. The Final EA addresses potential impacts of these alternatives on the natural and human environment.

• Alternative 1—No Action. The USDA would retain possession of the approximate 70 acres of land and facilities at the KSARC. The USDA would no longer operate and/or maintain approximately 85-90% of the property and it would likely fall into a state of disrepair. The USDA will continue ongoing research funded by other Locations on the remaining 10-15% of the property.

• Alternative 2—Proposed Action. The USDA would formally transfer approximately 70 acres of land at the KSARC to TAMUS. As a condition of the transfer, TAMUS would commit to using the Property for agricultural and natural resources research for a period of 25 years, supporting the strategic goals of USDA and establishing a Beginning Farmers and Ranchers Program at the Property. TAMUS would assume responsibility and maintenance of the constructed facilities and land to be conveyed from USDA.

In addition, one alternative was considered in the Draft EA but eliminated from detailed study. In this alternative, USDA would retain possession of the land and it would be transferred to the General Services Administration for disposal. Since it cannot reasonably be determined who would ultimately take possession of the property and how it would be utilized, it was not analyzed in detail in the EA.

The USDA used and coordinated the NEPA commenting process to satisfy the public involvement process for Section 106 of the National Historic Preservation Act (16 U.S.C. 470(f) as provided for in 36 CFR 800.2(d)(3)). No comments were received during the public comment period. Based on its analysis of the Final EA for the poperty transfer, ARS has found that transferring the land and buildings to TAMUS would have no significant impact on the quality of the human environment. Therefore, ARS will not prepare an Environmental Impact Statement for this proposed action.

Dated: October 22, 2013.
Caid E. Rexroad, Jr.,
Associate Administrator, Agricultural Research Service.

[FR Doc. 2013-26015 Filed 10-31-13; 8:45 am]

BILLING CODE 3410-03-P